DEPARTMENT OF ENERGY

Federal Energy Regulatory Commission

[Docket No. EG05-81-000]

FPL Energy Montezuma Wind, LLC; Notice of Application for Commission Determination of Exempt Wholesale Generator Status

July 14, 2005.

Take notice that on July 6, 2005, FPL Energy Montezuma Wind, LLC, (FPL Energy) located at 700 Universe Blvd., Juno Beach, Florida, 33408, filed with the Federal Energy Regulatory Commission an application for determination of exempt wholesale generator status pursuant to part 365 of the Commission's regulations.

FPL Energy Montezuma Wind, LLC states it is a wind facility with a nameplate generating capacity of approximately 34.2 MW located in Solano County, California.

FPL Energy states that copies of this filing have been served upon the Securities and Exchange Commission, the Florida Public Service Commission and the California Public Utilities Commission.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all the parties in this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. eastern time on July 28, 2005.

Linda Mitry,
Deputy Secretary.

[FR Doc. E5-4107 Filed 8-1-05; 8:45 am]

BILLING CODE 6717-01-P